DEPARTMENT OF HOMELAND SECURITY

[Docket Number DHS-2024-0026]

Agency Information Collection Activities: DHS OBIM Biometric Technology Assessments, OMB Control No. 1601-NEW

AGENCY: Department of Homeland Security (DHS).

ACTION: 60-Day notice and request for comments.

SUMMARY: The Department of Homeland Security will submit the following Information Collection Request (ICR) to the Office of Management and Budget (OMB) for review and clearance in accordance with the Paperwork Reduction Act of 1995.

DATES: Comments are encouraged and will be accepted until September 23, 2024. This process is conducted in accordance with 5 CFR 1320.1.

ADDRESSES: You may submit comments, identified by docket number Docket # DHS-2024-0026, at:

○ Federal eRulemaking Portal: http://www.regulations.gov. Please follow the instructions for submitting comments.

Instructions: All submissions received must include the agency name and docket number Docket # DHS-2024-0026. All comments received will be posted without change to http://www.regulations.gov, including any personal information provided.

Docket: For access to the docket to read background documents or comments received, go to http://www.regulations.gov.

SUPPLEMENTARY INFORMATION: The Department of Homeland Security's (DHS) Office of Biometric Identity Management (OBIM) provides biometric compare, store, share, and analyze services to DHS and mission partners. In order to serve its mission partners, OBIM is focused on delivering accurate, timely, and high assurance biometric identity information and analysis. To achieve OBIM's overall goals and priorities, OBIM continually works to improve biometric services by keeping up with advancing biometrics in terms of new modalities, capabilities, and safeguarding information. OBIM is constantly investigating new developments to keep up with the speed of relevance and to support DHS operational missions through the development of standards for interagency implementation of biometrics.

Because OBIM is congressionally mandated to manage the operation of the department's primary biometric repository and identification system that is used to identify and verify individuals crossing U.S. borders, it is mandatory for homeland security that the types of biometrics used, the technologies that capture them, and the way that OBIM safeguards them are advancing at a pace that keeps in front of bad actors. In the continuing appropriations act of 2013, OBIM was created from the former US-VISIT program to administer the DHS biometric database, as authorized by section 7208 of the Intelligence Reform And Terrorism Prevention Act of 2004 (8 U.S.C. 1365b). See Consolidated And Further Continuing Appropriations Act of 2013, Public Law 113-6, 127 Stat. 198 (2013). The Senate Explanatory Statement for the appropriation explains that “OBIM is the lead entity within DHS responsible for biometric identity management services through its management of the Automated Biometric Identification System, or IDENT. OBIM assumes the most significant and cross-cutting responsibility from what was known as US-VISIT—namely to serve customers across DHS, at other Federal agencies, in State and local law enforcement, and overseas through storage of biometric identities, recurrent matching against derogatory information, and other biometric expertise and services.” The Consolidated Appropriations Act of 2017, Public Law 115-31, Division F, section 301, 131 Stat. 135, 418 (2017), mandated DHS to implement a facial recognition matching capability for IDENT, including the ability to search, store and match, that is independent of other biometric modalities but scalable for future needs. The 2017 Appropriations Act also called for DHS to “demonstrate new agile projects focused on the ability to fuse biographic intelligence information with biometric data.”

Thus, OBIM is constantly working through research and development efforts and standards development to improve biometric use, capture, and storage through investigation of the latest industry or academic advancements and how research findings can help improve performance of systems and policies that surround the use of the system. While continuing to improve its biometric services, OBIM has identified a need to understand the performance of new sensors and data emerging from these sensors. This understanding is crucial for advancing standards development and threshold guidance, as continuously evolving technologies impact the performance of the operational biometric matchers leveraged by the OBIM biometric repository. OBIM engages with performers, like John Hopkins University Applied Physics Laboratory (JHU APL), National Institute of Standards Technology (NIST), and DHS Science And Technology (S&T) to collaborate and leverage the subject matter expertise available at each entity on biometric sensor evaluation to assess the performance of emerging biometric technologies.

OBIM seeks an Office of Management and Budget (OMB) number to address the Paperwork Reduction Act requirements for OBIM's studies of emerging biometric technology. These OBIM studies support relevant biometrics collection projects so that OBIM can collaborate with performers to take on various biometric collection projects that will help to understand biometric collection device performance in various operational settings. These performers include academic and other research centers to design and execute studies that involve collection of different biometrics depending on the need and/or research question. Since OBIM operates and maintains the DHS biometric repository responsible for storing, sharing, and matching of different types of biometrics modalities (i.e., face, finger, iris, and future biometrics) it is imperative that OBIM understand biometric collection device performance so that we are better able to do the sharing and comparing portion of our homeland security mission. Because authentication/identification accuracy depends on the reliability of the equipment used to capture data, OBIM is developing guidance on biometric capture quality, to enable the implementation of new capabilities that enhance national security and general public safety.

OBIM has tasked the performers to help in this effort based on their extensive experience with biometric image collection and analysis developed from previous studies. The performers anticipate conducting several small-scale human research studies to support OBIM program goals. OBIM is interested in gathering more information in the following biometric modalities: face, fingerprint, palm print, iris, and voice. The purpose of this analysis is (1) to evaluate the current state of the art in biometrics and biometric capture, and (2) to provide insights on likely future developments in biometrics and identity intelligence technologies for OBIM to continue advancing research and development efforts, interoperability standards, and threshold guidance. The goal is to aid in the elaboration of a multi-year strategy for both research and development for future technologies.

As OBIM is not an academic institution and does not engage in research studies; OBIM relies on academic and other research centers to design and execute studies that involve collection of different biometrics (depending on the need and/or research question). These performers develop research questions and protocols to solve questions and provide information and guidance for OBIM to better influence capture, share, match, and storage of biometrics.

OBIM aims to continue to improve biometric services within DHS and the necessary guidance associated with the implementation of these biometrics. The primary objective of the studies and use of information technology is to compare the performance of biometric sensors. Specifically, understanding the parameters that impact the quality of biometric image collection, which in turn, impacts the performance of downstream comparison algorithms.

OBIM will assess new sensors, as the technologies are continuously evolving, and the inherent impact on the performance with the operational biometric matchers leveraged by the OBIM biometric repository. To perform these assessments, biometric collections will occur using emerging commercial off the shelf sensors (e.g., finger, face, iris, scanner, using a platen, clamshell, mobile application, etc.). The assessment and potential future implementation of advancing biometric sensors aims to improve the biometric collection experience for the customer and the agent to ensure quality biometrics are collected in an easy to use and time efficient manner to reduce burden on the customer and agent involved in the collection while still providing quality biometric images to allow for accurate comparison for mission decision support.

Advancing technology will look to reduce burden by:

• Contactless modes of collection, reducing hygienic burden to individuals as a result of the current practices of touching the same surface.

• Simultaneous collection of multiple biometrics, reducing the burden to the customer and agent by eliminating multiple devices and thus decreasing the time for each additional biometric to be collected.

• Mobile collection sensors, reducing time burden of customer by eliminating the need to travel from site of encounter to a collection site.

If any small businesses will be involved in the collections, study, or testing that are conducted surrounding biometric devices or matching performances, OBIM will work to ensure that guidance is streamlined and clear for all participants and all the time limits put forth for collection and testing are limited. No requests of performers, vendors, or participants will be made that will be prohibitive to the participation of small businesses.

OBIM provides accurate, timely, and high assurance biometric identity services. As technology continues to advance at a rapid speed, new biometric collection devices and techniques continue to emerge. Variations in the technology leveraged in these new devices/sensors may impact the interoperability with the existing operational biometric comparison algorithms leveraged by DHS OBIM. Assessments of these technologies do not account for the impact on the legacy biometric information within the OBIM biometric repository and provides skewed performance results on emerging technology. Less frequent collections will impact the ability to identify issues related to the performance of the operational comparison algorithms with emerging biometric collection technologies. This will hinder advancements of research and development, drafting updates to interoperability standards, and inform comparison algorithm threshold guidance to optimize biometric comparison results for mission decision points.

There are no confidentiality assurances associated with this collection. However, coverage for the collection of this information is provided under DHS/ALL-041 External Biometric Records (EBR) System of Records, April 24, 2018, 83 FR 17829; DHS/NPPD/US-VISIT-0004-IDENT SORN, 72 FR 31080 (Jun. 5, 2007); DHS/ALL-043 Enterprise Biometric Administrative Records (EBAR) System of Records, March 16, 2020, 85 FR 14955.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security (DHS).

Title: DHS OBIM Biometric Technology Assessments.

OMB Number: 1601-NEW.

Frequency: Annually.

Affected Public: Direct Service Providers, Educational Institutions, etc.

Number of Respondents: 1,000.

Estimated Time per Respondent: 1.5 hours.

Total Burden Hours: 1,500 hours.

Robert Dorr,
Executive Director, Business Management Directorate.

[FR Doc. 2024-16341 Filed 7-24-24; 8:45 am]

BILLING CODE 9112-FL-P